DEPARTMENT OF HOMELAND SECURITY

U.S. Customs and Border Protection

Announcement of the Modification of the National Customs Automation Program Test Concerning the Automated Commercial Environment Portal Account To Establish the Exporter Portal Account

AGENCY: U.S. Customs and Border Protection, Department of Homeland Security.

ACTION: General notice.

SUMMARY: This document announces U.S. Custom and Border Protection's (CBP's) plan to modify the National Customs Automation Program (NCAP) test concerning Automated Commercial Environment (ACE) Portal Accounts to establish the ACE Exporter Portal Account, which includes access to Export Reports and the ability to file Electronic Export Information (EEI) through AESDirect. This notice invites public comment concerning any aspect of the planned modification, describes the eligibility and documentation requirements for applying for or requesting an ACE Exporter Portal Account, and outlines the development and evaluation methodology for the modification.

DATES: Except as stated below, the modification of the ACE Portal Account Test described in this notice is effective October 21, 2015. The testing of the AESDirect functionality described in this notice will begin no earlier than October 1, 2015. This modified test will continue until concluded by way of announcement in the Federal Register. Comments concerning this notice and any aspect of the announced modification may be submitted during the test period to the address set forth below.

ADDRESSES: Comments concerning this notice and any aspect of the modified ACE Portal Account Test may be submitted at any time during the testing period via email to Josephine Baiamonte, ACE Business Office (ABO), Office of International Trade at josephine.baiamonte@cbp.dhs.gov. In the subject line of your email, please indicate, “Comment on Exporter Portal Account FRN”.

FOR FURTHER INFORMATION CONTACT: For technical questions related to the application or request for an ACE Portal Account contact the ACE Account Service Desk by calling 1-866-530-4172, selecting option 1, then option 2, or by emailing ACE.Support@cbp.dhs.gov for assistance.

SUPPLEMENTARY INFORMATION:

I. Automated Commercial Environment (ACE)

A. The National Customs Automation Program

The National Customs Automation Program (NCAP) was established by Subtitle B of Title VI—Customs Modernization in the North American Free Trade Agreement Implementation Act, Public Law 103-182, 107 Stat. 2057, 2170, December 8, 1993 (Customs Modernization Act). See 19 U.S.C. 1411. Through NCAP, the initial thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions. CBP's modernization efforts are accomplished through phased releases of ACE component functionality designed to replace specific legacy ACS functions and add new functionality. Each release will begin with a test and, if the test is successful, will end with implementation of the functionality through the promulgation of regulations governing the new ACE feature and the retirement of the legacy ACS function.

For the convenience of the public, a chronological listing of Federal Register publications detailing ACE test developments is set forth below in Section X, entitled, “Development of ACE Prototypes.” The procedures and criteria applicable to participation in the ACE Portal Account Test remain in effect unless otherwise explicitly changed by this notice.

B. ACE Portal Accounts

On May 1, 2002, the former U.S. Customs Service, now CBP, published a General Notice in the Federal Register (67 FR 21800) announcing a plan to conduct a NCAP test of the first phase of ACE. The test was described as the first step toward the full electronic processing of commercial importations with a focus on defining and establishing an importer's account structure. That General Notice announced that importers and authorized parties would be allowed to access their customs data via an Internet-based Portal Account. The notice also set forth eligibility criteria for companies interested in establishing ACE Portal Accounts.

Subsequent General Notices expanded the types of ACE Portal Accounts. On February 4, 2004, CBP published a General Notice in the Federal Register (69 FR 5360) that established ACE Truck Carrier Accounts. On September 8, 2004, CBP published a General Notice in the Federal Register (69 FR 54302) inviting customs brokers to participate in the ACE Portal Test generally and informing interested parties that once they had been notified by CBP that their request to participate in the ACE Portal Account Test had been accepted, they would be asked to sign and submit a Terms and Conditions document. CBP subsequently contacted those participants and asked them to also sign and submit an ACE Power of Attorney form and an Additional Account/Account Owner Information form. Most recently, on October 18, 2007, CBP published a General Notice in the Federal Register (72 FR 59105) announcing the expansion of the ACE portal account types to include the following types: Carriers (all modes: air, rail, sea); Cartman; Lighterman; Driver/Crew; Facility Operator; Filer; Foreign Trade Zone (FTZ) Operator; Service Provider; and Surety.

C. Terms and Conditions for Access to the ACE Portal

On May 16, 2007, CBP published a General Notice in the Federal Register (72 FR 27632) announcing a revision of the terms and conditions that must be followed as a condition for access to the ACE Portal. The terms and conditions in that Notice supersede and replace the Terms and Conditions document previously signed and submitted to CBP by ACE Portal Account Owners. The principal changes to the ACE Terms and Conditions included a revised definition of “Account Owner” to permit either an individual or a legal entity to serve in this capacity, new requirements relating to providing notice to CBP when there has been a material change in the status of the Account and/or Account Owner, and explanatory provisions as to how the information from a particular account may be accessed through the ACE Portal when that account is transferred to a new owner.

On July 7, 2008, CBP published a General Notice in the Federal Register (73 FR 38464) which revised the terms and conditions set forth in the May 16, 2007 Notice regarding the period of Portal inactivity which will result in termination of access to the ACE Portal. The July 7, 2008 Notice provided that if forty-five (45) consecutive days elapse without an Account Owner, Proxy Account Owner, or an Account User accessing the ACE Portal, access to the Portal will be terminated. The time period for allowable Portal inactivity was previously ninety (90) days.

D. ACE Non-Portal Accounts

CBP has also permitted certain parties to participate in ACE without establishing ACE Portal Accounts, i.e., “Non-Portal Accounts.” On October 24, 2005, CBP published a General Notice in the Federal Register (70 FR 61466) announcing that CBP would no longer require importers to establish ACE Portal Accounts in order to deposit estimated duties and fees as a part of Periodic Monthly Statement (PMS). CBP decided it would only require importers to establish a Non-Portal Account to participate in PMS. On March 29, 2006, CBP published another General Notice in the Federal Register (71 FR 15756) announcing that truck carriers who do not have ACE Portal Accounts may use third parties to transmit truck manifest information on their behalf electronically in the ACE Truck Manifest system via Electronic Data Interface (EDI) messaging. Truck carriers who elect to use this transmission method will not have access to operating data and will not receive status messages on ACE transactions, nor will they have access to integrated Account data from multiple system sources.

II. Automated Export System (AES)

AES is the electronic method for the U.S. Principal Party in Interest (USPPI) or its authorized agent to file export commodity and transportation information, known as Electronic Export Information (EEI), directly with CBP and the Census Bureau. EEI is the electronic equivalent to the Shipper's Export Declaration (SED), a paper form previously used by exporters to report export information.¹ The purpose of AES is to be the central point through which CBP collects and maintains export data and related records to facilitate CBP's law enforcement and border security missions. CBP uses EEI to further its mission of ensuring the safety and security of cargo and preventing smuggling, expediting legitimate international trade and enforcing export and other applicable U.S. laws.² The Census Bureau uses EEI to compile and publish export trade statistics.

¹ The SED became obsolete in 2008 with the implementation of the Department of Commerce Foreign Trade Regulations (FTR) and has been superseded by the EEI filed in the AES. See 15 CFR 30.1. See also 19 CFR 192.14 regarding required EEI.

² Section 343(a) of the Trade Act of 2002, as amended (Trade Act) (19 U.S.C. 2071 note) requires CBP to promulgate regulations providing for mandatory transmission of electronic cargo information by way of a CBP-approved electronic data interchange (EDI) system before the cargo is brought into or departs from the United States by any mode of commercial transportation (i.e., sea, air, rail, or truck). 19 CFR 192.14 implements the requirements of the Trade Act with regard to cargo departing the United States. It requires the USPPI or its authorized agent to file any required EEI for the cargo.

On April 5, 2014, AES was re-engineered and incorporated into ACE. General information and a list of AES certified software vendors is available on the following Web site: http://www.cbp.gov/trade/aes. That Web site also has information regarding the AES Trade Interface Requirements (AESTIR) and the American National Standards Institute standard known as ANSI X.12, which contain the formatting requirements for the electronic transmission of commodity and transportation export data to CBP via AES. Additional information regarding AES is available under the “Getting Started” section of the Web site address provided above.

AES offers several options for transmitting export commodity and transportation data, which includes the choice of using software developed by the user, software purchased from a vendor, a Value Added Network (VAN) electronic mailbox, the facilities of a port authority or service center, or AESDirect, a free internet application supported by the Census Bureau. AESDirect came on-line in October 1999 and allows USPPIs or their authorized agents to file EEI free of charge using a variety of electronic transmission methods, the most popular of which is a web-based portal through which users may file any required EEI. AESDirect also provides USPPIs or their authorized agents with access to export reports that compile the data from EEI filings associated with a user account.

III. Authorization for Modification of the ACE Portal Account Test

The Customs Modernization Act authorizes the Commissioner of CBP to conduct limited test programs or procedures designed to evaluate planned components of the NCAP. The ACE Portal Account Test, as modified in this notice, is authorized pursuant to § 101.9(b) of title 19 of the Code of Federal Regulations (19 CFR 101.9(b)), which provides for the testing of NCAP programs or procedures. See Treasury Decision (T.D.) 95-21.

IV. Modification of the ACE Portal Account Test

This notice announces CBP's plan to modify the ACE Portal Account Test to establish limited export functionality within the ACE Portal Account. Features of this new portal account type, as well as the eligibility and documentation requirements for applying for an ACE Exporter Portal Account, are described below.

A. Exporter Portal Accounts

1. Exporter Portal Account Functionality

The ACE Exporter Portal Account provides exporters a new “exporter view” to the ACE Portal that permits exporters to access the export data associated with an Employer Identification Number (EIN), i.e., Export Reports. The Exporter Portal Account provides access to an Export Reports workspace that contains approximately 120 data objects, which mirror the data previously available to exporters upon request from the Census Bureau. The workspace will contain three standard reports that will provide transaction data for account users. Users will be able to modify and save these reports to create custom queries as well as build and save new reports using any desired combination of data objects available based on data elements in each report.

Beginning no earlier than October 1, 2015, the ACE Exporter Account Portal will enable USPPIs or their authorized agents to transmit EEI by selecting the “Submit AESDirect Filings” link in the exporter view. Selecting this link will direct USPPIs or their authorized agents to a Web page prompting users to accept the Terms and Conditions governing the use of ACE AESDirect. After accepting these Terms and Conditions, USPPIs or their authorized agents will gain access to the AESDirect portal in ACE that will allow them to file their required EEI.

ACE AESDirect is intended to replace the legacy AESDirect operated by the Census Bureau and provide online internet filing and upload capabilities to facilitate the transmission of EEI. During the testing period of the ACE AESDirect portal, USPPIs or their authorized agents may continue to use legacy AESDirect for filing EEI. Once ACE AESDirect is fully operational, the Census Bureau plans to discontinue the legacy AESDirect filing application. AESDirect filing functionality through the ACE Exporter Account Portal will initially be available to certain USPPIs that have been selected by the Census Bureau. After this brief initial phase, CBP will announce the public availability of this functionality on its Web site at http://www.cbp.gov/trade/automated.

2. Overview of Exporter Portal Account Creation

The owner of an ACE Exporter Portal Account will have the ability to create and maintain through the ACE Portal information regarding the name, address, and contact information for the corporate and individual account owner for the exporter account. Exporters will use the existing account structure established for the use of importers within the ACE portal.

New ACE users without an existing portal account will be required to apply for an ACE Exporter Portal Account, as explained in Section B.1 below. An application to establish an ACE Exporter Portal Account by new ACE users will initiate the approval process which requires the account owner to provide additional information required to complete the process. Before a new ACE user can establish an Exporter Portal Account, the Census Bureau must vet and approve prospective users.

Existing ACE Portal Account owners should follow instructions in Section B.2 below. Current ACE account holders must request an exporter account view within their existing portal account to access these functions. An existing ACE user who requests an ACE Exporter Portal Account will be asked to provide corporate and contact information to complete the process.

The account owner for new and existing ACE portal accounts may register additional EINs for subsidiary business units. To do so, the account owner must first register the principal EIN and then add subsidiary EINs to the account. A company operating under a single EIN will be designated as the account owner upon registration. If a subsidiary EIN is added to the account that has not yet been verified by CBP, the Census Bureau must vet and approve the newly added EIN before the subsidiary can access the Exporter Portal Account.

ACE test participants must agree to the “Terms and Conditions for Account Access of the Automated Commercial Environment (ACE) Portal.” See 72 FR 27632 (May 16, 2007) and 73 FR 38464 (July 7, 2008). New ACE users will be prompted to accept these Terms and Conditions during the application process. Upon completion of the application process, the applicant will receive an email message and be prompted to log in with the exporter's username and password which will create the ACE Exporter Portal Account. Once an account is created, the exporter will be provided with “exporter view” from the exporter home page.

B. Establishing an Exporter Portal Account

1. New ACE Portal Account Owner

Parties who do not have an ACE Portal Account may apply for an Exporter Portal Account according to the instructions on the following Web site: http://www.cbp.gov/trade/automated/getting-started/using-ace-secure-data-portal. Applicants will be required to complete an on-line application and provide “Corporate Information” and “ACE Account Owner” information listed below. The vetting process will begin once all steps have been completed and applications will be handled in the order in which they are received.

Corporate Information

1. EIN Number (SSN not allowed)

2. Company Name

3. DUNS Number (optional)

4. End of Fiscal Year (month and day)

5. Mailing Address (P.O. box not allowed)

ACE Account Owner

6. Name

7. Date of Birth

8. Email Address

9. Telephone Number

10. Fax Number (optional)

11. Address (if the Account Owner's Address differs from the Corporate Address provided above)

Once the ACE Exporter Portal Account application has been completed, the applicant will receive an email message to confirm submission of the application and direct the applicant how to log on to ACE to complete the account setup process and access the ACE Exporter Portal Account.³ Applicants who have not received an email message within 24 hours should contact the ACE Account Service Desk by calling 1-866-530-4172, selecting option 1, then option 2, or by emailing ACE.Support@cbp.dhs.gov for assistance.

³ Establishing an ACE Exporter Portal Account does not automatically provide access to the ACE Portal Account features for importers. Applicants wishing to establish an ACE Portal Account should submit an application by clicking on the “Apply for an Account” link located under the ACE Secure Data Portal sidebar on the following Web site: http://www.cbp.gov/trade/automated.

2. Existing ACE Portal Account Owners

Parties that have an existing ACE Portal Account may request an Exporter Portal Account through their established ACE portal account. For these accounts, the account owner may establish access to the Exporter Portal Account functionality according to the instructions on the following Web site: http://www.cbp.gov/trade/automated/getting-started/using-ace-secure-data-portal. In order to request Exporter Portal Account access the account owner will be asked to provide the following information:

Corporate Information

1. Exporter Company Name

2. EIN Number (SSN not allowed)

3. DUNS Number (optional)

4. Other Company Names (optional)

5. Mailing Address (P.O. box not allowed)

6. Company Telephone (optional)

7. Web site Address (optional)

Contact Information

1. Name

2. Date of Birth (optional)

3. Address (optional)

4. Email Address (optional)

5. Telephone Number (optional)

6. Fax Number (optional)

Once the existing ACE Account Owner completes the process, the Exporter Portal Account will be created and the account owner will be able to access the Exporter Portal Account functionality.

V. Test Duration

Except as stated below, the modification of the ACE Portal Account Test announced in this notice is effective on October 21, 2015. The testing of the AESDirect functionality announced in this notice will begin no earlier than October 1, 2015. This modified test will continue until concluded by way of announcement in the Federal Register. At the conclusion of the testing of the modification, an evaluation will be conducted and the results of that evaluation will be published in the Federal Register and the Customs Bulletin as required by section 101.9(b)(2) of the CBP regulations (19 CFR 101.9(b)(2)).

VI. Comments

All interested parties are invited to comment on any aspect of this ACE Portal Account Test, as modified by this notice, for the duration of the modified test. CBP requests comments and feedback on all aspects of this modification, including the design, conduct and implementation of the modification, in order to determine whether to modify, alter, expand, limit, continue, end, or fully implement this modification.

VII. Paperwork Reduction Act

The ACE Exporter Portal Account application has been approved by the Office of Management and Budget (OMB) in accordance with the requirements of the Paperwork Reduction Act (44 U.S.C. 3507) and assigned OMB control number 1651-0105. The information collection conducted under AES, including AESDirect, has been previously approved by OMB in accordance with the requirements of the Paperwork Reduction Act and assigned OMB control number 0607-0152. An agency may not conduct or sponsor, and a person is not required to respond to, a collection of information unless it displays a valid control number assigned by OMB.

VIII. Confidentiality

All data submitted and entered into ACE is subject to the Trade Secrets Act (18 U.S.C. 1905) and is considered confidential, except to the extent as otherwise provided by law. EEI is also subject to the confidentiality provisions of 15 CFR 30.60. As stated in previous notices, participation in the ACE Portal Account Test or any of the previous ACE tests is not confidential and upon a written Freedom of Information Act (FOIA) request, a name(s) of an approved participant(s) will be disclosed by CBP in accordance with 5 U.S.C. 552.

IX. Misconduct Under the Test

A test participant may be subject to civil and criminal penalties, administrative sanctions, liquidated damages, or discontinuance from participation in the ACE Portal Account Test, as modified by this notice, for any of the following:

(1) Failure to follow the terms and conditions of this test;

(2) Failure to exercise reasonable care in the execution of participant obligations;

(3) Failure to abide by applicable laws and regulations that have not been waived; or

(4) Failure to deposit duties, taxes or fees in a timely manner.

If the Director, Business Transformation Division, ACE Business Office (ABO), Office of International Trade, finds that there is a basis for discontinuance of test participation privileges, the test participant will be provided a written notice proposing the discontinuance with a description of the facts or conduct warranting the action. The test participant will be offered the opportunity to appeal the Director's decision in writing within 10 calendar days of receipt of the written notice. The appeal must be submitted to the Executive Director, ABO, Office of International Trade, by emailing Deborah.Augustin@cbp.dhs.gov.

The Executive Director will issue a decision in writing on the proposed action within 30 working days after receiving a timely filed appeal from the test participant. If no timely appeal is received, the proposed notice becomes the final decision of the Agency as of the date that the appeal period expires. A proposed discontinuance of a test participant's privileges will not take effect unless the appeal process under this paragraph has been concluded with a written decision adverse to the test participant.

In the case of willfulness or those in which public health, interest, or safety so requires, the Director, Business Transformation Division, ABO, Office of International Trade, may immediately discontinue the test participant's privileges upon written notice to the test participant. The notice will contain a description of the facts or conduct warranting the immediate action. The test participant will be offered the opportunity to appeal the Director's decision within 10 calendar days of receipt of the written notice providing for immediate discontinuance. The appeal must be submitted to the Executive Director, ABO, Office of International Trade, by emailing Deborah.Augustin@cbp.dhs.gov. The immediate discontinuance will remain in effect during the appeal period. The Executive Director will issue a decision in writing on the discontinuance within 15 working days after receiving a timely filed appeal from the test participant. If no timely appeal is received, the notice becomes the final decision of the Agency as of the date that the appeal period expires.

X. Development of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment (ACE) Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of NCAP Test Concerning ACE Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

• Modification of National Customs Automation Program (NCAP) Test Concerning the Automated Commercial Environment (ACE) Partner Government Agency (PGA) Message Set Regarding Types of Transportation Modes and Certain Data Required by the National Highway Traffic Safety Administration (NHTSA): 80 FR 47938 (August 10, 2015).

• Automated Commercial Environment (ACE) Export Manifest for Rail Cargo Test: 80 FR 54305 (September 7, 2015).

Dated: October 15, 2015.
Cynthia F. Whittenburg,
Acting Assistant Commissioner, Office of International Trade.

[FR Doc. 2015-26751 Filed 10-20-15; 8:45 am]

BILLING CODE 9111-14-P